AGENCY FOR INTERNATIONAL DEVELOPMENT

Notice of Public Information Collection Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before July 30, 2002.

FOR FURTHER INFORMATION CONTACT: Beverly Johnson, Bureau for Management, Office of Administrative Services, Information and Records Division, U.S. Agency for International Development, Room 2.07-106, RRB, Washington, DC, 20523, (202) 712-1365 or via e-mail bjohnson@usaid.gov.

SUPPLEMENTARY INFORMATION: OMB No.: OMB 0412-0536.

Form No.: AID 1420-62.

Title: AID Contractor Employee Physical Examination Form

Type of Review: Renewal of Information Collection.

Purpose: When USAID awards contracts that require contractor employees to be assigned overseas, the contractor employees are required to obtain a physician's certification that they are physically qualified to engage in the type of activity for which they will be employed. Physicians who do not regularly deal with patients going to lesser-developed countries do not appreciate the difficulties of providing even the most basic medical services in many such areas. This form requests the minimum information needed in order to make a determination as to whether or not the individual should travel to the post in question. If problematic medical conditions are identified prior to overseas travel, the number of medical evacuations are reduced. In addition, the information on the form is used by the U.S. Embassy Health Unit to determine if the individual is eligible to receive access to and medical care from the Health Unit, if such access is routinely granted to individuals with the status of USAID contractor employees. The individual therefore receives a valuable benefit in that those posts with this policy typically do not have adequate medical care available in the local economy.

Annual Reporting Burden: Respondents: 1,280. Total annual responses: 1,280. Total annual hours requested: 7,680 hours.

Dated: May 22, 2002.
Joanne Paskar,
Chief, Information and Records Division, Office of Administrative Services, Bureau for Management.

[FR Doc. 02-13644 Filed 5-30-02; 8:45 am]

BILLING CODE 6116-01-M